SECURITIES AND EXCHANGE COMMISSION

[File No. 500-1]

In the Matter of Advanced Lighting Solutions, Inc.; Order of Suspension of Trading

September 4, 2015.

It appears to the Securities and Exchange Commission that there is a lack of current and accurate information concerning the securities of Advanced Lighting Solutions, Inc. because of questions regarding the accuracy and completeness of assertions by the company in materials posted on the Web site operated by OTC Markets Group, Inc. and in press releases. This includes questions about the accuracy of a May 14, 2015 Form ATS and a May 26, 2015 press release with respect to the company's business plans and activities. Advanced Lighting Solutions, Inc. is a Wyoming corporation with its principal place of business located in Conroe, Texas. Its stock is quoted on OTC Link, operated by OTC Markets Group Inc., under the ticker: AVLS.

The Commission is of the opinion that the public interest and the protection of investors require a suspension of trading in the securities of the above-listed company.

Therefore, it is ordered, pursuant to Section 12(k) of the Securities Exchange Act of 1934, that trading in the securities of the above-listed company is suspended for the period from 9:30 a.m. EDT on September 4, 2015, through 11:59 p.m. EDT on September 18, 2015.

By the Commission.
Brent J. Fields,
Secretary.

[FR Doc. 2015-22780 Filed 9-4-15; 4:15 pm]

BILLING CODE 8011-01-P